DEPARTMENT OF ENERGY

Federal Energy Regulatory Commission

[Docket No. EG05-65-0000, et al.]

Alpena Power Generation, L.L.C., et al.; Electric Rate and Corporate Filings

May 26, 2005.

The following filings have been made with the Commission. The filings are listed in ascending order within each docket classification.

1. Alpena Power Generation, L.L.C.

[Docket No. EG05-65-000]

Take notice that on May 5, 2005, Alpena Power Generation, L.L.C., (Alpena Generation) located at 310 North Second Avenue, Alpena, Michigan 49707, filed with the Commission an application for determination of exempt wholesale generator status pursuant to part 365 of the Commission's regulations. Alpena Generation states that it is a Michigan limited liability corporation located in the City of Alpena in Alpena County, Michigan, that owns and operates 30 diesel generators with an aggregate capacity rating of 54.6 mega-watts. Alpena Generation further states that all of the electric energy produced by the Facilities will be sole wholesale.

Comment Date: 5 p.m. on June 6, 2005.

2. Central Hudson Gas & Electric Corporation; Niagara Mohawk Power Corporation

[Docket Nos. ER97-1523-085, OA97-470-077, ER97-4234-075, and OA96-194-013]

Take notice that on May 23, 2005, Niagara Mohawk Power Corporation, (Niagara Mohawk) a National Grid Company, submitted a revision to its April 12, 2005 compliance filing in Docket Nos. ER97-1523-084, OA97-470-076, OA97-470-074, and OA96-194-012. Niagara Mohawk states that its revised compliance filing was submitted to correct certain errors in its original compliance filing.

Comment Date: 5 p.m. on June 13, 2005.

3. Midwest Independent Transmission System Operator, Inc., Midwest Independent Transmission System Operator, Inc., Midwest Independent Transmission System Operator, Inc., Ameren Services Co., et al.

[Docket Nos. ER05-6-024, EL04-135-026, EL02-111-044, and EL03-212-040]

Take notice that on May 23, 2005, the Midwest Independent Transmission System Operator, Inc. (Midwest ISO) and Midwest ISO Transmission Owners (collectively Applicants) jointly submitted for filing revisions to Schedule 22 of the Midwest ISO Open Access Transmission and Energy Markets Tariff in compliance with the Commission's November 18, 2004 order in Docket Nos. ER05-6, EL04-135, EL02-111, and EL03-212, Midwest Indep. Transmission Sys. Operator, Inc. 109 FERC ¶ 61,168 (2004) to reflect recent revisions in the PJM Interconnection, L.L.C. (PJM) transmission owners lost revenues as shown for the first time in the PJM transmission owners' April 29, 2005 filing, in Docket Nos. ER05-6-21; EL04-135-023; EL02-111-041; and EL03-212-037.

Applicants state that copies of the filing were served on the parties on the official service list in the above-captioned proceeding.

Comment Date: 5 p.m. on June 6, 2005.

4. Astoria Energy LLC

[Docket No. ER01-3103-009]

Take notice that on May 23, 2005, Astoria Energy LLC (Astoria) submitted for filing a supplemental application pursuant to section 205 of the Federal Power Act for: (1) the triennial renewal of its market-based rate authority and (2) the acceptance of a modification to its sole rate schedule to comply with Order No. 652. Astoria requests an effective date of March 6, 2005.

Comment Date: 5 p.m. on June 13, 2005.

5. Bridgeport Energy, LLC

[Docket No. ER05-611-001]

Take notice that on May 20, 2005, Bridgeport Energy, LLC (Bridgeport) tendered for filing its responses to the April 20, 2005 deficiency letter from the Commission requesting additional information to assist in its decision on the cost-of-service agreement between Bridgeport and ISO-New England, Inc. (ISO-NE) filed February 18, 2005. Bridgeport states that the cost-of-service agreement compensates Bridgeport for the provision of reliability services to ISO-NE.

Comment Date: 5 p.m. on June 13, 2005.

6. Southwest Power Pool, Inc.

[Docket Nos. ER05-652-002, RT04-1-013, ER04-48-013, and ER05-109-002]

Take notice that on May 23, 2005, Southwest Power Pool, Inc. (SPP) submitted a compliance filing providing for revisions to its Open Access Transmission Tariff (OATT) pursuant to the Commission's order issued April 22, 2005, in Southwest Power Pool, Inc., 111 FERC ¶ 61,118. SPP requests an effective date of May 5, 2005.

SPP states that it has served a copy of its transmittal letter on each of its Members and Customers. SPP further states that a complete copy of this filing will be posted on the SPP Web site http://www.spp.org, and is also being served all affected state commissions.

Comment Date: 5 p.m. on June 13, 2005.

7. Southwest Power Pool, Inc.

[Docket No. ER05-666-002]

Take notice that on May 23, 2005, Southwest Power Pool, Inc. (SPP) submitted additional information pursuant to the Commission's deficiency letter issued April 21, 2005, in Docket No. ER05-666-000. Specificially, SPP submitted a response to several inquiries by the Commission regarding the proposed liability and indemnification provisions of SPP's March 1, 2005, filing in this proceeding.

SPP states that it has served a copy of this filing upon each of the parties to this proceeding.

Comment Date: 5 p.m. on June 13, 2005.

8. Aquila, Inc.

[Docket Nos. ER05-999-000, ER05-1000-000, ER05-1001-000, ER05-1002-000, ER05-1003-000, ER05-1004-000, ER05-1005-000, ER05-1006-000, ER05-1007-000, and ER05-1008-000]

Take notice that on May 23, 2005, Aquila, Inc. (Aquila), filed with the Commission, pursuant to section 205 of the Federal Power Act, 16 U.S.C. 824d, and part 35 of the Commission's regulations, 18 CFR part 35, Incremental Energy Agreements with the Cities of Ashland, Attica, Greensburg, Hoisington, Kingman, Lincoln, Osborne, Pratt, Stockton, and Washington, Kansas. Aquila requests an effective date of June 1, 2005.

Comment Date: 5 p.m. on June 13, 2005.

9. PJM Interconnection, L.L.C.

[Docket No. ER05-1010-001]

Take notice that on May 25, 2005, PJM Interconnection, L.L.C. (PJM) submitted an amendment to its May 23, 2005, filing in Docket No. ER05-1010-000 by submitting an unexecuted substitute interconnection service agreement among PJM, Neptune Regional Transmission System, L.L.C. and Jersey Central Power & Light Company a FirstEnergy company. PJM requests an effective date of May 20, 2005.

PJM states that copies of this filing were served upon the parties to the agreements and the state regulatory commissions within the PJM region.

Comment Date: 5 p.m. on June 3, 2005.

10. Public Service Company of New Mexico

[Docket No. ER05-1015-000]

Take notice that on April 28, 2005, the Public Service Company of New Mexico (PNM) tendered for filing a Notice of Cancellation of Supplement No. 1 (Service Schedule A) to the Interconnection Agreement of July 19, 1966, between El Paso Electric Company and PNM (PNM Rate Schedule FERC No. 9). Included in the filing are revised sheets to PNM's Rate Schedule FERC No. 9 to reflect the cancellation of Service Schedule A of the Interconnection Agreement. PNM requests an effective date of June 30, 2005.

PNM states that copies of the filing have been served on El Paso Electric Company, the New Mexico Public Regulation Commission, and the New Mexico Attorney General. PNM also states that copies of the filing are available for public inspection at PNM's offices in Albuquerque, New Mexico.

Comment Date: 5 p.m. on June 1, 2005.

Standard Paragraph

Any person desiring to intervene or to protest in any of the above proceedings must file in accordance with Rules 211 and 214 of the Commission's Rules of Practice and Procedure (19 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TYY, call (202) 502-8659.

Linda Mitry,
Deputy Secretary.

[FR Doc. E5-2869 Filed 6-3-05; 8:45 am]

BILLING CODE 6717-01-P